DEPARTMENT OF THE INTERIOR

National Park Service

Pipestone National Monument; Environmental Impact Statement

AGENCY: National Park Service, Interior.

ACTION: Notice of intent to prepare a general management plan and environmental impact statement for Pipestone National Monument, Minnesota.

SUMMARY: The National Park Service (NPS) will prepare a general management plan (GMP) and an associated environmental impact statement (EIS) for Pipestone National Monument, Minnesota, in accordance with section 102(2)(C) of the National Environmental Policy Act of 1969 (NEPA). This notice is being furnished as required by NEPA Regulations 40 CFR 1501.7.

To facilitate sound planning and environmental assessment, the NPS intends to gather information necessary for the preparation of the EIS, and to obtain suggestions and information from other agencies and the public on the scope of issues to be addressed in the EIS. Comments and participation in this scoping process are invited.

Participation in the planning process will be encouraged and facilitated by various means, including newsletters and open houses or meetings. The NPS will conduct public scoping meetings to explain the planning process and to solicit opinion about issues to address in the GMP/EIS. Notification of all such meetings will be announced in the local press and in NPS newsletters.

ADDRESSES: Written comments and information concerning the scope of the EIS, requests to be added to the project mailing list, and other matters should be directed to: Mr. Jim LaRock, Superintendent, Pipestone National Monument, 36 Reservation Avenue, Pipestone, Minnesota 56164. Telephone: 507-825-5464. E-mail: jim_larock@nps.gov

FOR FURTHER INFORMATION CONTACT: Jim LaRock, Superintendent, Pipestone National Monument, at the address and telephone number listed above.

SUPPLEMENTARY INFORMATION: Pipestone National Monument is located near the Minnesota-South Dakota border. Within the 283-acres monument are pipestone (catlinite) quarries, native tallgrass prairie, and quartzite bluffs. The monument was established for two purposes: (1) To manage the pipestone quarries to provide American Indians the opportunity to quarry the pipestone, and (2) to preserve and manage the ethnological, historical, archeological, and geological resources of the area for the betterment and enjoyment of all.

In accordance with NPS Park Planning policy, the GMP will ensure the monument has a clearly defined direction for resource preservation and visitor use. The GMP will help define what types of resource conditions, visitor uses, and management actions will best achieve the mission of the NPS and Pipestone National Monument. Additionally the GMP process will address facility needs, staffing, park interpretation and activities, and maintenance. It will be developed in consultation with servicewide program managers, interested parties, and the general public. It will be based on an adequate analysis of existing and potential resource conditions and visitor experiences, environmental impacts, and costs of alternative courses of action.

The environmental review of the GMP/EIS for the monument will be conducted in accordance with requirements of the NEPA (42 U.S.C. 4371 et seq.), NEPA regulations (40 CFR 1500-1508), other appropriate Federal regulations, and NPS procedures and policies for compliance with those regulations.

Dated: September 13, 2000.
Linda C. Witkowski,
Acting Regional Director.

[FR Doc. 00-24502 Filed 9-22-00; 8:45 am]

BILLING CODE 4310-70-P